DEPARTMENT OF TRANSPORTATION

Pipeline and Hazardous Materials Safety Administration

[Docket ID PHMSA-2013-0094]

Pipeline Safety: Workshop on Public Awareness Programs

AGENCY: Pipeline and Hazardous Materials Safety Administration (PHMSA), DOT.

ACTION: Notice of workshop.

SUMMARY: PHMSA is sponsoring a two-day public awareness workshop on June 19 and June 20, 2013, at the Hyatt Regency North Dallas hotel in Richardson, Texas. The workshop serves as an opportunity to bring pipeline safety stakeholders together to discuss ways to improve public awareness outreach. Federal and state regulators will share general findings from recent public awareness inspections and various stakeholders (Federal and state regulators, industry, pipeline operators, public, emergency response officials, local public officials, land planners, and excavators) will share their perspectives on what is working and what is not working with existing public awareness requirements and API RP 1162 (1st edition). The goal of the workshop is to discuss ways to strengthen pipeline safety public awareness. The workshop will be webcast.

DATES: The workshop will be held on June 19-20, 2013. Name badge pick up and on-site registration will be available starting at 8:00 a.m. central time on June 19, 2013, with the workshop taking place from 9:00 a.m. until approximately 5:00 p.m. central time, both days. Refer to the meeting Web site for agenda and times at: http://primis.phmsa.dot.gov/meetings/MtgHome.mtg?mtg=90&nocache=6406. Please note that all workshop presentations will be available on the meeting Web site within 15 days following the workshop.

ADDRESSES: The workshop will be held at the Hyatt Regency North Dallas hotel, 701 East Campbell Road, Richardson, TX 75081. Hotel reservations must be made by contacting the hotel directly. Hotel reservations can be made under the “Public Awareness Workshop” room block for the nights of June 18-20, 2013, at 1-888-421-1442, or online at https://resweb.passkey.com/Resweb.do?mode=welcome_ei_new&eventID=10635869. A daily room rate of $113.00 per night is available until May 27, 2013, under the room block. The meeting room location will be posted at the hotel on the day of the workshop.

Registration: Members of the public may attend this free workshop. To help assure that adequate space is provided, all attendees are encouraged to register for the workshop at http://primis.phmsa.dot.gov/meetings/MtgHome.mtg?mtg=90&nocache=6406.

Comments: Members of the public may also submit written comments either before or after the workshop. Comments should reference Docket ID PHMSA-2013-0094. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000, (65 FR 19477).

Information on Services for Individuals with Disabilities: For information on facilities or services for individuals with disabilities, or to request special assistance at the meeting, please contact Christie Murray at (202) 366-4996 or by email at Christie.murray@dot.gov by June 14, 2013.

FOR FURTHER INFORMATION CONTACT: Christie Murray at 202-366-4996 or by email at christie.murry@dot.gov.

SUPPLEMENTARY INFORMATION:

The primary goals of the public awareness workshop are to:

(1) Provide an overview of the public awareness program and discuss recent inspection findings;

(2) Understand what's working and not working with public awareness requirements and API RP 1162 (1st edition) from various stakeholder perspectives (industry, pipeline operators, public, emergency response officials, local public officials, and excavators);

(3) Share ways to improve public awareness outreach efforts; and

(4) Discuss the path forward for improving public awareness.

Issued in Washington, DC on May 17, 2013.
Jeffrey D. Wiese,
Associate Administrator for Pipeline Safety.

[FR Doc. 2013-12241 Filed 5-22-13; 8:45 am]

BILLING CODE 4910-60-P